DEPARTMENT OF THE INTERIOR

Minerals Management Service

Historical Royalty and Production Data

AGENCY: Minerals Management Service (MMS), Interior.

ACTION: Notice of availability.

SUMMARY: MMS implemented a new financial management system on November 1, 2001. As part of the implementation process, royalty and production data reported to our predecessor system was transferred to the new system. Reporters will need this information to make accurate adjustments and corrections to previously reported data. This notice informs reporters where and how they may obtain their historical royalty and production data.

DATES: This information is available April 17, 2002.

ADDRESSES: To request access to historical data via the Internet, send a completed System Access Request Form (SARF) to Minerals Management Service, Attention: Information Technology Center, Policy and Security Group, P.O. Box 25165, Mail Stop 340G4, Denver, CO 80225. To request historical data on a compact disk, send a written request to Minerals Management Service, Reporting Services, Attention: Kathy Ciferri, P.O. Box 5760, Mail Stop 357B1, Denver, CO 80217-5760.

FOR FURTHER INFORMATION CONTACT: Ms. Kathy Ciferri, Minerals Management Service, P.O. Box 5760, MS-357B1, Denver, CO 80217-5760; telephone number (303) 231-3060; fax number (303) 231-3608; e-mail kathleen.ciferri@mms.gov.

SUPPLEMENTARY INFORMATION: Before the new financial management system was implemented November 1, 2001, royalty data reported to MMS on Federal and Indian mineral leases was entered into the Auditing and Financial System (AFS). Production data reported to MMS on Federal and Indian mineral leases was entered into the Production Accounting and Auditing System (PAAS).

As part of the implementation of the new financial management system, MMS converted all royalty data received between January 1, 1983, and October 16, 2001, to the new Report of Sales and Royalty Remittance (Form MMS-2014, revised October 1, 2001) format. MMS converted all production data reported on the Monthly Report of Operations (Form MMS-3160), the Oil and Gas Operations Report (OGOR), and the Production Allocation Schedule Report (PASR) received between January 1, 1983, and October 16, 2001, to the new OGOR and PASR (Forms MMS-4054 and MMS-4058, revised October 1, 2001) formats. This historical royalty and production data is stored in the new financial management system in the revised formats.

This historical data is available to the original reporters of the data. MMS is fully aware of the necessity to protect proprietary data; consequently, data will not be released to anyone, other than the original reporter, unless the requester demonstrates a legal right to that data. MMS will provide historical data by reporter code to companies who merge when complete ownership can be legally demonstrated. Companies that acquire only a portion of another company's leases will not receive historical data except through specific Freedom of Information Act requests.

To Obtain Historical Data Via the Internet

To obtain historical data via the Internet, refer to MMS's “Dear Reporter” letter dated October 22, 2001, for detailed instructions on how to complete the required SARF. The SARF was an attachment to the October 22, 2001 letter, and is also available on MMS's Internet site at www.mrm.mms.gov. Send the SARF to the address listed in the ADDRESSES section above. Once the SARF is processed, MMS will advise reporters of the secure Internet site for access to their data. Reporters will have the capability to download their historical royalty and production data from the Internet with the exception of PASR data. The length of time it will take to download the data directly correlates with how much data there is to download and the connection speed to the Internet.

To Obtain Historical Data Via Compact Disk (CD)

To obtain historical data via CD, send a written request to the address listed in the ADDRESSES section above. The MMS will provide this CD one time only at no charge to the requestor. The data will be created in ASCII format, fixed-width character size output files. These files can then be easily imported to Microsoft Access or Excel, or downloaded to a mainframe computer. However, as with downloading data from the Internet, the ease of downloading to Microsoft Access or Excel will vary depending on the volume of data to be downloaded. The data must be requested and will be provided by specified reporter code (payor code for royalty data and operator code for production data).

Dated: March 1, 2002.
Milton K. Dial,
Acting Associate Director for Minerals Revenue Management.

[FR Doc. 02-9297 Filed 4-16-02; 8:45 am]

BILLING CODE 4310-MR-U